FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR Part 238), and Regulation MM (12 CFR Part 239), and all other applicable statutes and regulations to become a savings and loan holding company and/or to acquire the assets or the ownership of, control of, or the power to vote shares of a savings association and nonbanking companies owned by the savings and loan holding company, including the companies listed below.

The applications listed below, as well as other related filings required by the Board, are available for immediate inspection at the Federal Reserve Bank indicated. The application also will be available for inspection at the offices of the Board of Governors. Interested persons may express their views in writing on the standards enumerated in the HOLA (12 U.S.C. 1467a(e)). If the proposal also involves the acquisition of a nonbanking company, the review also includes whether the acquisition of the nonbanking company complies with the standards in section 10(c)(4)(B) of the HOLA (12 U.S.C. 1467a(c)(4)(B)). Unless otherwise noted, nonbanking activities will be conducted throughout the United States.

Unless otherwise noted, comments regarding each of these applications must be received at the Reserve Bank indicated or the offices of the Board of Governors not later than October 17, 2014.

A. Federal Reserve Bank of Chicago (Colette A. Fried, Assistant Vice President) 230 South LaSalle Street, Chicago, Illinois 60690-1414:

1. Ben Franklin Financial, Inc.; to become a savings and loan holding company by acquiring 100 percent of the voting shares of Ben Franklin Bank of Illinois, both of Arlington Heights, Illinois. Ben Franklin Financial, MHC, Arlington Heights, Illinois, proposes to convert to stock form and merge with Ben Franklin Financial, Inc., and will be merged into Ben Franklin Financial, Inc., a de novo corporation.

Board of Governors of the Federal Reserve System, September 17, 2014.
Michael J. Lewandowski,
Associate Secretary of the Board.

[FR Doc. 2014-22462 Filed 9-19-14; 8:45 am]

BILLING CODE 6210-01-P